DEPARTMENT OF HOMELAND SECURITY

Federal Emergency Management Agency

[Docket ID FEMA-2020-0002; Internal Agency Docket No. FEMA-B-2036]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 24, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2036, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Stanislaus County, California and Incorporated Areas
Project: 19-09-0002S Preliminary Date: March 31, 2020
City of Ceres | City Hall, 2220 Magnolia Street, Ceres, CA 95307.
City of Modesto | Tenth Street Place, 1010 10th Street, Modesto, CA 95354.
City of Newman | City Hall, 938 Fresno Street, Newman, CA 95360.
City of Patterson | City Hall, 1 Plaza Circle, Patterson, CA 95363.
Unincorporated Areas of Stanislaus County | Tenth Street Place, 1010 10th Street, Modesto, CA 95354.
Clay County, Iowa and Incorporated Areas
Project: 18-07-0010S Preliminary Date: September 30, 2019
City of Dickens | Community Center, 100 Main Street, Dickens, IA 51333.
City of Everly | City Hall, 202 North Main Street, Everly, IA 51338.
City of Peterson | City Hall, 101 Main Street, Peterson, IA 51047.
City of Spencer | City Hall, 418 2nd Avenue West, Spencer, IA 51301.
City of Webb | City Hall, 306 Church Street, Webb, IA 51366.
Town of Gillett Grove | Town Hall, 221 Railway Street, Gillett Grove, IA 51341.
Unincorporated Areas of Clay County | Clay County Courthouse, 300 West 4th Street, Spencer, IA 51301.
Crawford County, Iowa and Incorporated Areas
Project: 18-07-0011S Preliminary Date: October 15, 2019
City of Arion | Arion City Hall, 333 4th Street, Dow City, IA 51528.
City of Aspinwall | Crawford County Courthouse, 1202 Broadway, Denison, IA 51442.
City of Buck Grove | Buck Grove City Hall, 333 4th Street, Dow City, IA 51528.
City of Charter Oak | City Hall, 453 Railroad Street, Charter Oak, IA 51439.
City of Deloit | Community Center, 320 Maple Street, Deloit, IA 51441.
City of Denison | City Hall, 111 North Main Street, Denison, IA 51442.
City of Dow City | City Hall, 117 North Franklin Street, Dow City, IA 51528.
City of Kiron | City Hall, 12 North Grove Street, Kiron, IA 51448.
City of Manilla | City Hall, 443 Main Street, Manilla, IA 51454.
City of Ricketts | City Hall, 28 Maple Street, Ricketts, IA 51460.
City of Vail | City Hall, 215 Main Street, Vail, IA 51465.
City of Westside | City Hall, 131 Main Street, Westside, IA 54167.
Unincorporated Areas of Crawford County | Crawford County Courthouse, 1202 Broadway, Denison, IA 51442.
Des Moines County, Iowa and Incorporated Areas
Project: 16-07-2202S Preliminary Date: August 27, 2018 and March 27, 2020
Unincorporated Areas of Des Moines County | Southeast Iowa Regional Planning Commission, 211 North Gear Avenue, Suite 100, West Burlington, IA 52655.
Henry County, Iowa and Incorporated Areas
Project: 16-07-2275S Revised Preliminary Date: March 26, 2020
Unincorporated Areas of Henry County | Henry County Courthouse, 100 East Washington Street, Mount Pleasant, IA 52641.
Tama County, Iowa and Incorporated Areas
Project: 17-07-0294S Preliminary Date: March 15, 2019
City of Dysart | City Hall, 601 Wilson Street, Dysart, IA 52224.
Pottawatomie County, Kansas and Incorporated Areas
Project: 15-07-0283S Preliminary Date: January 31, 2020
City of Belvue | City Hall, 308 Broadway Street, Belvue, KS 66407.
City of St. Marys | City Hall, 200 South 7th Street, St. Marys, KS 66536.
City of Wamego | City Hall, 430 Lincoln Avenue, Wamego, KS 66547.
Unincorporated Areas of Pottawatomie County | Pottawatomie County Administration Building, 207 North 1st Street, Westmoreland, KS 66549.

[FR Doc. 2020-13820 Filed 6-25-20; 8:45 am]

BILLING CODE 9110-12-P